ENVIRONMENTAL PROTECTION AGENCY

40 CFR Part 52

[EPA-R04-OAR-2024-0606; FRL-12862-01-R4]

Air Plan Approval; GA; Updates to the Cross-State Air Pollution Rule

AGENCY: Environmental Protection Agency (EPA).

ACTION: Proposed rule.

SUMMARY: The Environmental Protection Agency (EPA) is proposing to approve a State Implementation Plan (SIP) revision submitted through the Georgia Environmental Protection Division (GA EPD) on July 18, 2024, regarding updates to the State's Cross-State Air Pollution Rule (CSAPR) emissions trading programs. The SIP revision incorporates by reference (IBRs) certain amendments EPA has made to the regulations for the Federal CSAPR trading programs for annual emissions of nitrogen oxides (NOX) and sulfur dioxide (SO2) and the Federal CSAPR trading program for NOX emissions during the ozone season from May 1 to September 30, all three of which apply to large electric generating units (EGUs). EPA created these Federal trading programs in 2011 as market-based mechanisms for Georgia and certain other states to address their obligations to downwind states under the Clean Air Act's (CAA's) good neighbor provision with respect to the national ambient air quality standards (NAAQS) for fine particulate matter (PM2.5) and ground-level ozone. The SIP revision also updates the definition for “Volatile Organic Compound.” EPA is proposing to approve Georgia's July 18, 2024, SIP revision because it is consistent with EPA's good neighbor CSAPR trading programs and the CAA.

DATES: Comments must be received on or before September 15, 2025.

ADDRESSES: Submit your comments, identified by Docket ID No. EPA-R04-OAR-2024-0606 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. Mr. Ortiz can be reached via phone number (404) 562-8085 or via electronic mail at ortizborrero.josue@epa.gov.

SUPPLEMENTARY INFORMATION:

I. Overview

EPA is proposing to approve GA EPD's July 18, 2024, SIP submission which updates the State's regulations for trading programs at Rule 391-3-1-.02(12), “Cross State Air Pollution Rule NOX Annual Trading Program;” Rule 391-3-1-.02(13), “Cross State Air Pollution Rule SO2 Annual Trading Program;” and Rule 391-3-1-.02(14), “Cross State Air Pollution Rule NOX Ozone Season Trading Program.” Large EGUs in Georgia are subject to these three State CSAPR trading programs for annual NOX and SO2 emissions—which are precursors to PM2.5—and ozone season NOX emissions—which are precursors to ground-level ozone—to address the State's good neighbor obligations with respect to the 1997 annual fine particulate matter (PM2.5) NAAQS, the 2006 24-hour PM2.5 NAAQS, and the 1997 8-hour ozone NAAQS. Pursuant to CAA section 110(a)(2)(D)(i)(I), known as the “good neighbor” provision, states are required to address air pollution from sources within their jurisdiction that affects downwind states' ability to attain and maintain the NAAQS. See 42 U.S.C. 7410(a)(2)(D)(i)(I). The State CSAPR trading programs are integrated with the Federal CSAPR NOX Annual Trading Program, the Federal CSAPR NOX Ozone Season Group 1 Trading Program, and the Federal CSAPR SO2 Group 2 Trading Program established by EPA's regulations at 40 CFR part 97, subparts AAAAA, BBBBB, and DDDDD, respectively. As adopted by the State before this SIP revision, and as previously approved by EPA into Georgia's SIP, Georgia's CSAPR trading program regulations generally IBR the Federal CSAPR trading program regulations as the Federal regulations had been amended through October 26, 2016.¹

¹ On October 26, 2016, EPA published the CSAPR Update. See Cross-State Air Pollution Rule Update for the 2008 Ozone NAAQS, 81 FR 74504.

Georgia's July 18, 2024, SIP submission updates the IBR language to reflect amendments EPA made to the Federal CSAPR trading program regulations in the 2021 Revised CSAPR Update,² the 2022 Recordation Rule,³ the 2023 Good Neighbor Plan ⁴ (GNP), and a subsequent interim final rule administratively staying the GNP for sources in several states in response to judicial orders partially staying another EPA action.⁵ Section II, below, briefly summarizes the framework of the CSAPR trading programs and how those programs are implemented in Georgia. Additionally, this SIP revision also updates Georgia's volatile organic compounds (VOC) definition at Rule 391-3-1-.01, “Definitions.”

² Revised Cross-State Air Pollution Rule Update for the 2008 Ozone NAAQS, 86 FR 23054 (April 30, 2021).

³ Deadlines for Submission and Recordation of Allowance Allocations Under the Cross-State Air Pollution Rule (CSAPR) Trading Programs and the Texas SO2 Trading Program, 87 FR 52473 (August 26, 2022).

⁴ Federal “Good Neighbor Plan” for the 2015 Ozone National Ambient Air Quality Standards, 88 FR 36654 (June 5, 2023).

⁵ Federal “Good Neighbor Plan” for the 2015 Ozone National Ambient Air Quality Standards; Response to Judicial Stays of SIP Disapproval Action for Certain States, 88 FR 49295 (July 31, 2023).

EPA is proposing to approve Georgia's July 18, 2024, SIP revision because it is consistent with EPA's good neighbor CSAPR trading programs and the CAA.⁶ Please refer to the Federal Register citations referenced herein for additional detailed background on the CSAPR and subsequent rulemakings.

⁶ EPA is not acting on proposed changes in Georgia's July 18, 2024, submittal regarding Rule 391-3-1-.02(8), New Source Performance Standards, and 391-3-1-.02(9), Emission Standards for Hazardous Air Pollutants because these rules are not included in EPD's federally approved SIP and are not submitted as SIP revisions.

II. Background on CSAPR and CSAPR-Related Rulemakings

EPA published the original CSAPR in August 2011 to address the good neighbor requirements of CAA section 110(a)(2)(D)(i)(I), concerning interstate transport of air pollution.⁷ See 42 U.S.C. 7410(a)(2)(D)(i)(I). Acting to address the same statutory provision, EPA published the CSAPR Update on October 26, 2016 (81 FR 74504) and the Revised CSAPR Update on April 30, 2021 (86 FR 23054). These three rules collectively require 27 states to limit their statewide emissions of SO2 and/or NOX to mitigate transported air pollution unlawfully impacting other states' ability to attain or maintain one or more of the following four NAAQS: the 1997 annual PM2.5 NAAQS, the 2006 24-hour PM2.5 NAAQS, the 1997 8-hour ozone NAAQS, and the 2008 8-hour ozone NAAQS. To implement the required emissions reductions, the rules include Federal implementation plans (FIPs) that require EGUs in each covered state to participate in one or more of six Federal emissions trading programs established under regulations set forth at 40 CFR part 97, subparts AAAAA through EEEEE and GGGGG.⁸

⁷ Federal Implementation Plans: Interstate Transport of Fine Particulate Matter and Ozone and Correction of SIP Approvals, 76 FR 48208 (August 8, 2011).

⁸ The trading programs established under CSAPR, the CSAPR Update, and the Revised CSAPR Update include a program for annual NOX emissions; two geographically separate programs for annual SO2 emissions; and three geographically separate programs for ozone-season NOX emissions. CSAPR replaced the earlier Clean Air Interstate Rule (CAIR) and established Federal trading programs for power plants to reduce emissions of NOX and SO2, which are precursors to ozone and PM2.5.

Georgia has been subject to CSAPR since its inception, with EGUs required to participate in Federal trading programs for NOX and SO2 emissions. As part of the original CSAPR in 2011, EPA determined that emissions from Georgia significantly contributed to nonattainment or interference with maintenance of the 1997 ozone NAAQS, 1997 annual PM2.5 NAAQS, and 2006 24-hour PM2.5 in other states.⁹ To address Georgia's good neighbor obligations, the State's large EGUs became subject to the Federal CSAPR NOX Annual Trading Program established in subpart AAAAA of 40 CFR part 97, the Federal CSAPR NOX Ozone Season Group 1 Trading Program established in subpart BBBBB of 40 CFR part 97, and the Federal CSAPR SO2 Group 2 Trading Program established in subpart DDDDD of 40 CFR part 97.¹⁰

⁹ See 76 FR at 48213.

¹⁰ See 76 FR at 48363.

In the 2016 CSAPR Update, EPA did not reopen the previous determination that Georgia has a good neighbor obligation with respect to the 1997 ozone NAAQS, but found that the State does not need to implement further emissions reductions to meet its good neighbor obligations with respect to the 2008 ozone NAAQS.¹¹ Georgia's original CSAPR NOX ozone season requirements (including its emission budget) continued unchanged.¹² The CSAPR Update included technical corrections to all the trading programs established in CSAPR but did not otherwise address the 1997 or 2006 PM2.5 NAAQS. Georgia's EGUs that meet the CSAPR applicability criteria therefore continued to be subject to the CSAPR requirements to participate in the Federal CSAPR NOX Annual Trading Program, the Federal CSAPR NOX Ozone Season Group 1 Trading Program,¹³ and the Federal CSAPR SO2 Group 2 Trading Program to address the State's good neighbor obligations with respect to the 1997 ozone NAAQS and the 1997 and 2006 PM2.5 NAAQS.

¹¹ See 81 FR at 74506.

¹² Id.

¹³ Following the CSAPR Update, Georgia is the only state whose units participate in this trading program. See 40 CFR 52.38(b)(2)(i); CSAPR Update, 81 FR at 74509.

CSAPR includes provisions under which states may submit and EPA will approve SIP revisions to modify or replace the CSAPR FIP requirements while allowing states to continue to meet their good neighbor obligations using either CSAPR's Federal emissions trading programs or State emissions trading programs integrated with the Federal programs.¹⁴ Georgia took advantage of these provisions in 2017. That year, Georgia submitted and EPA approved revisions to Georgia's SIP establishing three State CSAPR trading programs that replaced the three Federal CSAPR trading programs regarding Georgia EGUs for annual emissions of NOX and SO2 and NOX ozone season emissions. EPA approved Georgia's July 26, 2017 SIP submission in an action published on October 13, 2017,¹⁵ which added to the SIP Georgia Rules 391-3-1-.02(12), “Cross State Air Pollution Rule NOX Annual Trading Program;” Rule 391-3-1-.02(13), “Cross State Air Pollution Rule SO2 Annual Trading Program;” and Rule 391-3-1-.02(14), “Cross State Air Pollution Rule NOX Ozone Season Trading Program,” comprising Georgia's versions of the Federal trading program regulations. In general, each State CSAPR trading program rule is designed to replace the corresponding Federal trading program regulation. These Georgia CSAPR State trading programs are now integrated with the Federal CSAPR NOX Annual Trading program, the Federal CSAPR SO2 Group 2 Trading Program, and the Federal CSAPR NOX Ozone Season Group 1 Trading Program, respectively. The State trading programs are substantively identical to the Federal trading programs.¹⁶ Georgia units subject to the State CSAPR trading programs are generally required to meet the same requirements they would otherwise have been subject to under the corresponding CSAPR Federal trading programs.¹⁷

¹⁴ See 76 FR at 48326-332; 40 CFR 52.38, 52.39. States also retain the ability to submit SIP revisions to meet their good neighbor obligations using mechanisms other than the CSAPR Federal trading programs or integrated State trading programs.

¹⁵ See Air Plan Approval; Georgia; Cross-State Air Pollution Rule, 82 FR 47930 (October 13, 2017).

¹⁶ The Georgia regulations are designed to IBR most of subparts AAAAA, BBBBB, and DDDDD of 40 CFR part 97, while separately listing the emissions budgets, which are identical to the emissions budgets in the Federal regulations.

¹⁷ Georgia retains EPA's default allowance allocation methodology, and EPA remains the implementing authority for administration of the trading program.

Since EPA's approval of the three State CSAPR trading programs into Georgia's SIP in 2017, EPA has promulgated changes to the Federal CSAPR trading programs at 40 CFR part 97, subparts AAAAA, BBBBB, and DDDDD, starting with the 2021 Revised CSAPR Update, whose primary purpose was to complete the evaluation and implementation of good neighbor obligations of certain states (not including Georgia) with respect to the 2008 ozone NAAQS.¹⁸ However, that rule also modified subparts AAAAA, BBBBB, and DDDDD of part 97, including (1) adjustments to the procedures for allocating allowances from the portions of the states' emissions budgets set aside for potential allocation to new units (i.e., new unit set-asides or NUSAs)—with conforming adjustments to the assurance provisions ¹⁹—and (2) extensions to the deadlines for EPA to record allocations of allowances in sources' compliance accounts and for sources to hold allowances after each control period, whether the sources participate in the integrated trading programs under FIPs or under approved SIP revisions. EPA's 2022 Recordation Rule further extended the deadlines for EPA to record allocations of allowances in sources' compliance accounts.²⁰

¹⁸ See 86 FR 23054. The Revised CSAPR Update did not reopen EPA's determination in the CSAPR Update that Georgia does not contribute significantly to nonattainment in, or interfere with maintenance by, any other state with respect to the 2008 ozone NAAQS. See 86 FR at 23067 & n.60.

¹⁹ The CSAPR trading programs' “assurance provisions” require the surrender of additional allowances if total emissions from a state's sources in a control period exceed the state's “assurance level,” which equals the state's emissions budget plus a defined “variability limit.” See, e.g., 40 CFR 97.406(c)(2) and 97.425.

²⁰ See 87 FR 52473 (August 26, 2022).

In March 2023, EPA promulgated the Good Neighbor Plan (GNP), which determined the good neighbor obligations of 23 states (not including Georgia) with respect to the 2015 ozone NAAQS, establishing FIP requirements for emissions sources in those states to address their obligations by reducing ozone season NOX emissions.²¹ The GNP modified the CSAPR NOX Ozone Season Group 3 trading program at subpart GGGGG of 40 CFR 97, expanding the program to apply to EGUs in additional states to address their good neighbor obligations for the 2015 ozone NAAQS.

²¹ See 88 FR 36654 (June 5, 2023).

EPA previously had found that sources in Georgia did not need to implement further emissions reductions to satisfy good neighbor obligations with respect to the 2015 ozone NAAQS,²² and in the GNP EPA did not establish a new NOX ozone season FIP for the State. However, the GNP also finalized updates to the Federal trading programs integrated with Georgia's State CSAPR trading programs, in 40 CFR part 97 at subparts AAAAA (NOX Annual), BBBBB (NOX Ozone Season Group 1), and DDDDD (SO2 Group 2) (88 FR 36654). These updates included technical corrections regarding allowance allocations for units in Indian Country and cross-reference updates for conformity with the amended provisions of the CSAPR NOX Ozone Season Group 3 trading program at subpart GGGGG.

²² EPA approved Georgia's good neighbor SIP for the 2015 ozone NAAQS in 2021. See 86 FR 68413 (December 2, 2021).

Following the finalization of the GNP and a related action published in February 2023 that disapproved states' good neighbor SIPs,²³ multiple parties challenged one or both actions in eight Federal circuit courts. During 2023, several courts granted requests to stay the SIP disapprovals for certain states pending judicial review, thereby effectively suspending EPA's authority to implement the GNP in those affected states.²⁴ Then, on June 27, 2024, the U.S. Supreme Court issued a decision staying enforcement of the GNP's requirements against the stay applicants, which included three states, several owners of affected sources, and several trade associations.²⁵ In response to the judicial stay orders, EPA issued three interim final rules in 2023 and 2024. The interim final rules administratively stayed the effectiveness of all GNP requirements established to address obligations of the states to mitigate interstate air pollution with respect to the 2015 ozone NAAQS.²⁶ The three interim final rules also include provisions (including some additional conforming cross-reference updates to subpart BBBBB of 40 CFR part 75) to ensure that power plants in GNP-affected states with previously established requirements to mitigate interstate air pollution with respect to the 2008 ozone NAAQS will remain subject to equivalent requirements while the GNP's effectiveness is stayed.

²³ Air Plan Disapprovals; Interstate Transport of Air Pollution for the 2015 8-Hour Ozone National Ambient Air Quality Standards, 88 FR 9336 (February 13, 2023).

²⁴ See, e.g., Order, Texas v. EPA, No. 23-60069 (5th Cir. May 1, 2023) and Order, Texas v. EPA, No. 23-60069 (5th Cir. June 8, 2023). CAA section 110(c)(1) generally requires EPA to issue a FIP within two years after either disapproving a required SIP from the state or finding that the state failed to submit a required SIP. See 42 U.S.C. 7410(c)(1). In this case, once the circuit courts stayed EPA's disapproval actions for some states, EPA lacked authority to implement the GNP as to the sources in those states.

²⁵ Ohio v. EPA, 603 U.S. 279 (June 27, 2024).

²⁶ Federal “Good Neighbor Plan” for the 2015 Ozone National Ambient Air Quality Standards; Response to Judicial Stays of SIP Disapproval Action for Certain States, 88 FR 49295 (July 31, 2023); Federal “Good Neighbor Plan” for the 2015 Ozone National Ambient Air Quality Standards; Response to Additional Judicial Stays of SIP Disapproval Action for Certain States, 88 FR 67102 (September 29, 2023); Federal “Good Neighbor Plan” for the 2015 Ozone National Ambient Air Quality Standards; Response to Judicial Stay, 89 FR 87960 (November 6, 2024). EPA's administrative stay of the GNP's effectiveness for power plants and other industrial facilities in each of the 23 states will remain in place until the Supreme Court lifts its order staying enforcement of the GNP, other courts lift any judicial order staying the SIP disapproval action for the relevant state, and EPA takes subsequent rulemaking action consistent with any judicial rulings on the merits.

Just as the GNP and the related action disapproving states' SIPs did not apply to Georgia or sources in Georgia, the judicial orders partially staying those rules do not apply to Georgia or sources in Georgia. Further, the interim final rules administratively staying the effectiveness of the GNP provisions addressing the 2015 ozone NAAQS did not stay the technical corrections or cross-reference updates to subparts AAAAA, BBBBB, or DDDDD of 40 CFR part 97 that were included in the GNP final rule. As a result, Georgia's July 18, 2024, SIP submission, which IBRs Federal good neighbor regulation updates included in the GNP and the first interim final rule, is not affected by the stay orders.

III. Georgia's SIP Submission and EPA's Analysis

A. Georgia's SIP Submittal

As described in Section II of this preamble, EPA approved Georgia's CSAPR SIP revision adopting the State rules at 391-3-1-.02(12), 391-3-1-.02(13), and 391-3-1-.02(14) in an action published on October 13, 2017,²⁷ replacing the Federal CSAPR NOX Annual, CSAPR SO2 Group 2, and CSAPR NOX Ozone Season Group 1 trading programs at 40 CFR part 97, subparts AAAAA, DDDDD, and BBBBB, respectively, for Georgia EGUs with State CSAPR trading programs that are integrated with and substantively identical to the Federal trading programs.

²⁷ See 82 FR 47930.

Georgia's July 18, 2024, SIP submission seeks approval into the SIP of the State's revisions to its CSAPR trading program rules that IBR more recent amendments to the Federal CSAPR trading program regulations. Specifically, the submission revises the IBR language in 391-3-1-.02(12), 391-3-1-.02(13), and 391-3-1-.02(14) to IBR revisions to the Federal CSAPR trading programs made after the previous October 26, 2016, IBR date and through July 31, 2023. The revisions also correct the amounts that are reserved from the State's emissions budgets in NUSAs to match the current amounts set forth in the Federal regulations. Lastly, Georgia's July 18, 2024, SIP revision also proposes to update Georgia's volatile organic compounds definition at Rule 391-3-1-.01, Definitions.

B. EPA's Analysis of Georgia's SIP Submission

EPA is proposing to approve Georgia's July 18, 2024, SIP revision that update the State's CSAPR trading program rules. First, the SIP revision revises the IBR language for 391-3-1-.02(12), “Cross State Air Pollution Rule NOX Annual Trading Program;” 391-3-1-.02(13), “Cross State Air Pollution Rule SO2 Annual Trading Program;” and 391-3-1-.02(14), “Cross State Air Pollution Rule NOX Ozone Season Trading Program.” Georgia Rule 391-3-1-.02(12)(a) and Georgia Rule 391-3-1-.02(13)(a) are revised to update the IBR date from October 26, 2016, to June 5, 2023, and Georgia Rule 391-3-1-.02(14)(a) is revised to update the IBR date from October 26, 2016, to July 31, 2023, to incorporate the relevant amendments to the Federal rules at 40 CFR part 97 subpart AAAAA, DDDDD, and BBBBB, respectively. Specifically, Georgia's SIP revision replaces these citations with the updated citations to June 5, 2023 (88 FR 36654) for subparts AAAAA and DDDDD at Rules 391-3-1-.02(12) and 391-3-1-.02(13), and to July 31, 2023 (88 FR 49295) for subpart BBBBB at Rule 391-3-1-.02(14). This revised IBR language ensures that the text of the Federal regulations incorporated into Georgia's SIP is consistent with the most recent Federal amendments through the date of Georgia's SIP submission.

Second, Georgia's SIP revision updates the portions of the emissions budgets reserved in NUSAs for all three trading programs. In 2021, EPA promulgated the corrected NUSA amounts in part 97 in the Revised CSAPR Update.²⁸ Georgia's July 18, 2024, SIP revision corrects the NUSA amounts from 1,075 tons to 1,074 tons for the CSAPR NOX Annual allowances at Georgia Rule 391-3-1-.02(12)(f)2.; from 2,711 tons to 2,721 tons for the CSAPR SO2 Group 2 allowances at Georgia Rule 391-3-1-.02(13)(f)2.; and from 481 tons to 485 tons for the CSAPR NOX Ozone Season Group 1 allowances at Georgia Rule 391-3-1-.02(14)(f)2.

²⁸ The Revised CSAPR Update also included revised regulatory text in 40 CFR part 52 that authorizes EPA to administer the trading programs using the corrected NUSA amounts even in instances where a state's approved SIP still includes the previous uncorrected NUSA amounts. See 40 CFR 52.38(a)(7)(i)(B) (NOX Annual), 52.38(b)(14)(i)(B) (NOX Ozone Season Group 1), and 52.39(k) (1)(ii) (SO2 Group 2).

The changes included in Georgia's July 18, 2024, SIP revision make Georgia's State CSAPR trading program regulations more consistent with the current Federal CSAPR trading program regulations by incorporating more recent amendments. EPA has reviewed Georgia's SIP revision and finds that the updates and corrections align the State's regulations with the amendments codified in part 97, subparts AAAAA, BBBBB, and DDDDD, as part of the Revised CSAPR Update, the Recordation Rule, the GNP (only the revisions to subparts AAAAA, BBBBB, and DDDDD of part 97, which do not address the 2015 ozone NAAQS), and the July 31, 2021, interim final rule.

EPA has determined that the IBR update at Rules 391-3-1-.02(12), 391-3-1-.02(13), and 391-3-1-.02(14) included in Georgia's SIP revision is consistent with the Federal CSAPR NOX Annual, CSAPR SO2 Group 2, and CSAPR NOX Ozone Season Group 1 Trading Program regulations. EPA proposes to find that, with these updates, Georgia's State CSAPR rules would continue to satisfy Georgia's obligations under CAA section 110(a)(2)(D)(i)(I) to prohibit emissions that significantly contribute to nonattainment or interfere with maintenance of the 1997 ozone NAAQS and the 1997 and 2006 PM2.5 NAAQS in downwind states.

Additionally, the submission includes changes to Rule 391-3-1-.01, Definitions, where Georgia updates the definitions of “volatile organic compound” (VOC) at subparagraph (llll) to align with the federal definition at 40 CFR 51.100(s). Tropospheric or ground-level ozone occurs when VOC and NOX react in the atmosphere in the presence of sunlight. Because of the harmful effects of ozone, EPA and State governments implement rules to limit the amount of certain VOC and NOX that can be released into the atmosphere. CAA section 302(s) specifies that EPA has the authority to define the meaning of “VOC” and hence, what compounds shall be treated as VOC for regulatory purposes.²⁹ EPA's longstanding policy is that compounds of carbon with negligible reactivity need not be regulated to reduce ground-level ozone and should be excluded from the regulatory definition of VOC. See 42 FR 35314 (July 18, 1977), 70 FR 54046 (September 13, 2005). EPA lists these compounds in its regulations at 40 CFR 51.100(s) and excludes them from the definition of VOC. Georgia's VOC definition update at subparagraph (llll) adds trans-1,1,1,4,4,4-hexafluorobut-2-ene (HFO-1336mzz(E)) on the list of organic compounds having negligible photochemical reactivity to align with EPA's addition at 40 CFR 51.100(s), where EPA excludes compounds from the definition of regulated VOCs due to negligible reactivity and therefore contribution to ground-level ozone formation.³⁰ See 88 FR 8226 (February 8, 2023) (adding trans-1,1,1,4,4,4-hexafluorobut-2-ene (HFO-1336mzz(E)) to the exclusion list at 40 CFR 51.100(s)).

²⁹ EPA determines whether a given carbon compound has “negligible” reactivity by comparing the compound's reactivity to the reactivity of ethane.

³⁰ VOC have differing levels of reactivity; they do not react at the same speed or do not form ozone to the same extent when mixed with nitrogen oxides.

EPA proposes to find that Georgia's revised VOC definition will not interfere with attainment or maintenance of any national ambient air quality standards, reasonable further progress, or any other applicable requirement of the CAA, consistent with CAA section 110(l), because EPA has found the excluded chemical to be negligibly reactive.

In addition, Georgia's SIP revision makes administrative updates to the definition of VOC, including: converting the term “Organic Compound” to lower case “organic compound” at Rule 391-3-1-.01(llll); updating the VOC definition term for “chlorodifluoromethane (CFC)” to “chlorodifluoromethane (HCFC-22)” and the term for “trifluoromethane (FC-23)” to “trifluoromethane (HFC-23)” to be consistent with the designations established at 40 CFR 51.100(s); changing the spelling of “Sulphur” to “Sulfur” at Rule 391-3-1-.01(llll)4.; and revising the terms “tertiaryamines” and “nonreactive” at Rule 391-3-1-.01(llll)3. and 5. to “tertiary-amines” and “non-reactive,” respectively. The EPA proposes to approve Georgia's revisions to the “VOC” definition at Rule 391-3-1-.01, subparagraph (llll) because these changes are administrative in nature and increase consistency with the Federal VOC definition at 40 CFR 51.100(s).

IV. Incorporation by Reference

In this document, EPA is proposing to include in a final EPA rule regulatory text that includes incorporation by reference. In accordance with requirements of 1 CFR 51.5, and as discussed in Section III of this preamble, EPA is proposing to incorporate by reference Georgia Rules 391-3-1-.02(12), Cross State Air Pollution Rule NOX Annual Trading Program; 391-3-1-.02(13), Cross State Air Pollution Rule SO2 Annual Trading Program; and 391-3-1-.02(14), Cross State Air Pollution Rule NOX Ozone Season Trading Program, state effective July 15, 2024, which adopt and incorporate by reference Federal amendments to 40 CFR part 97, subpart AAAAA—CSAPR NOX Annual Trading Program, and subpart DDDDD—CSAPR SO2 Group 2 Trading Program, as promulgated after October 26, 2016, through June 5, 2023 and subpart BBBBB—CSAPR NOX Ozone Season Group 1 Trading Program through July 31, 2023. EPA is also proposing to incorporate by reference Georgia Rule 391-3-1-.01, Definitions, state effective July 15, 2024,³¹ which updates the definitions of “volatile organic compound.” EPA has made, and will continue to make, these materials generally available through www.regulations.gov and at the EPA Region 4 office (please contact the person identified in the For Further Information Contact section of this preamble for more information).

³¹ Except the first paragraph, sections (a)-(nn), (pp)-(ccc), (eee)-(jjj), (nnn)-(bbbb), (dddd)-(kkkk), (mmmm), (rrrr)-(ssss), which were approved on 12/4/2018 with a state effective date of 7/20/2017; sections (ddd) and (cccc) which were approved on 2/2/1996 with a state effective date of 11/20/1994; (nnnn), which was approved on 1/5/2017 with a state effective date of 8/14/2016; and sections (oooo) and (pppp), which are not in the SIP.

V. Proposed Action

For the aforementioned reasons, EPA is proposing to approve the July 18, 2024, SIP revision consisting of changes to Georgia Air Quality Rules related to the CSAPR trading programs found at 391-3-1-.02(12), 391-3-1-.02(13), and 391-3-1-.02(14), and the definition for “Volatile Organic Compound” found at 391-3-1-.01.

VI. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this proposed action merely proposes to approve state law as meeting Federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Sulfur oxides.

(Authority: 42 U.S.C.7401 et seq.)

Dated: August 6, 2025.
Kevin McOmber,
Regional Administrator, Region 4.

[FR Doc. 2025-15461 Filed 8-13-25; 8:45 am]

BILLING CODE 6560-50-P